DEPARTMENT OF THE INTERIOR

Fish and Wildlife Service

Endangered and Threatened Wildlife and Plants; 5-Year Review of 16 Southeastern Species

AGENCY: Fish and Wildlife Service, Interior.

ACTION: Notice.

SUMMARY: The U.S. Fish and Wildlife Service (Service) is initiating 5-year reviews of the Carolina northern flying squirrel (Glaucomys sabrinus coloratus), Cahow (Pterodroma cahow), boulder darter (Etheostoma wapiti), relict darter (Etheostoma chienense), Cumberland pigtoe (Pleurobema gibberum), rough pigtoe (Pleurobema plenum), orangefoot pimpleback (pearlymussel) (Plethobasus cooperianus), tan riffleshell (Epioblasma florentina walkeri), white wartyback (pearlymussel) (Plethobasus cicatricosus), noonday snail (Mesodon clarki nantahala), Nashville crayfish (Orconectes shoupi), Kentucky cave shrimp (Palaemonias ganteri), Cumberland sandwort (Arenaria cumberlandensis), Tennessee purple coneflower (Echinacea tennesseensis), large-flowered skullcap (Scutellaria montana), and rock gnome lichen (Gymnoderma lineare) under section 4(c)(2) of the Endangered Species Act of 1973, as amended (Act). The purpose of reviews conducted under this section of the Act is to ensure that the classification of species as threatened or endangered on the List of Endangered and Threatened Wildlife and Plants (50 CFR 17.11 and 17.12) is accurate. A 5-year review is an assessment of the best scientific and commercial data available at the time of the review.

DATES: To allow us adequate time to conduct this review, information submitted for our consideration must be received on or before November 20, 2007. However, we will continue to accept new information about any listed species at any time.

ADDRESSES: Information submitted on the Carolina northern flying squirrel, tan riffleshell, noonday snail, and rock gnome lichen should be sent to the Field Supervisor, Asheville Field Office, U.S. Fish and Wildlife Service, 160 Zillicoa Street, Asheville, North Carolina 28801, fax 828/258-5330. Information on the boulder darter, Cumberland pigtoe, orangefoot pimpleback, white wartyback, Nashville crayfish, Cumberland sandwort, Tennessee purple coneflower, and large-flowered skullcap should be sent to the Field Supervisor, Cookeville Field Office, U.S. Fish and Wildlife Service, 446 Neal Street, Cookeville, Tennessee 38501, fax 931/528-7075. Information on the relict darter, rough pigtoe, and Kentucky cave shrimp should be sent to the Field Supervisor, Frankfort Field Office, U.S. Fish and Wildlife Service, 330 West Broadway, Frankfort, Kentucky 40601, fax 502/695-1024. Information on the cahow should be sent to the Field Supervisor, Raleigh Field Office, U.S. Fish and Wildlife Service, P.O. Box 33726, Raleigh, North Carolina 27636, fax 919/856-4556. Information received in response to this notice of review will be available for public inspection by appointment, during normal business hours, at the same addresses.

FOR FURTHER INFORMATION CONTACT: For information on the Carolina northern flying squirrel, contact Robert Currie at the Asheville Field Office address above (phone 828/258-3939 ext. 224, e-mail Robert_Currie@fws.gov). For information on the tan riffleshell, contact Robert (Bob) Butler at the Asheville Field Office address above (phone 828/258-3939 ext. 235, e-mail Bob_Butler@fws.gov). For information on the noonday snail, contact John Fridell at the Asheville Field Office address above (phone 828/258-3939 ext. 225, e-mail John_Fridell@fws.gov). For information on the rock gnome lichen, contact Carolyn Wells at the Asheville Field Office address above (phone 828/258-3939 ext. 231, e-mail Carolyn_Wells@fws.gov). For information on the boulder darter, Cumberland pigtoe, orangefoot pimpleback, or white wartyback, contact James (Jim) Widlak at the Cookeville Field Office address above (phone 931/528-6481 ext. 202, e-mail James_Widlak@fws.gov). For information on the Nashville crayfish, Cumberland sandwort, Tennessee purple coneflower, or large-flowered skullcap, contact Geoff Call at the Cookeville Field Office address above (phone 931/528-6481 ext. 214, e-mail Geoff_Call@fws.gov). For information on the relict darter or Kentucky cave shrimp, contact Mike Floyd at the Frankfort Field Office address above (phone 502/695-0468 ext. 102, e-mail Mike_Floyd@fws.gov). For information on the rough pigtoe, contact Leroy Koch at the Frankfort Field Office address above (phone 502/695-0468 ext. 106, e-mail Leroy_Koch@fws.gov). For information on the cahow, contact David Rabon at the Raleigh Field Office address above (phone 919/856-4520 ext. 16, e-mail David_Rabon@fws.gov).

SUPPLEMENTARY INFORMATION: Under the Act (16 U.S.C. 1533 et seq.), the Service maintains a list of endangered and threatened wildlife and plant species at 50 CFR 17.11 (for animals) and 17.12 (for plants) (collectively referred to as the List). Section 4(c)(2)(A) of the Act requires that we conduct a review of listed species at least once every 5 years. Then, on the basis of such reviews, under section 4(c)(2)(B), we determine whether or not any species should be removed from the List (delisted), or reclassified from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. Amendments to the List through final rules are published in the Federal Register.

The regulations at 50 CFR 424.21 require that we publish a notice in the Federal Register announcing those species currently under active review. This notice announces our active review of the following species listed as endangered: Carolina northern flying squirrel (mammal), Cahow (bird), boulder darter (fish), relict darter (fish), Cumberland pigtoe (mussel), rough pigtoe (mussel), orangefoot pimpleback (mussel), tan riffleshell (mussel), white wartyback (mussel), Nashville crayfish (crayfish), Kentucky cave shrimp (shrimp), Cumberland sandwort (plant), Tennessee purple coneflower (plant), and rock gnome lichen (lichen). This notice also covers two species that are listed as threatened: noonday snail (snail) and large-flowered skullcap (plant). The List is also available on our Internet site at http://endangered.fws.gov/wildlife.html#Species.

What information is considered in the review?

A 5-year review considers all new information available at the time of the review. A 5-year review will consider the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Specific information Requested for the Boulder Darter, Cumberland Pigtoe, Orangefoot Pimpleback, White Wartyback, and Rock Gnome Lichen

We are especially interested in obtaining information about the present condition of the species' habitats, recovery of degraded habitats, threats to extant populations, discovery of new populations, or rediscovery of populations thought to be extirpated. We are also interested in information about ongoing or successfully completed recovery activities. We specifically request information regarding the current distribution of the species throughout their ranges and the status of extant populations.

Definitions Related to This Notice

The following definitions are provided to assist those persons who contemplate submitting information regarding the species being reviewed:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Over-utilization for commercial, recreational, scientific, or educational purposes;

C. Disease or predation;

D. The inadequacy of existing regulatory mechanisms; or

E. Other natural or manmade factors affecting its continued existence.

Section 4(a)(1) of the Act requires that our determination be made on the basis of the best scientific and commercial data available.

What could happen as a result of this review?

If we find that there is new information concerning any of these 16 species indicating that a change in classification may be warranted, we may propose a new rule that could do one of the following: (a) Reclassify the species from endangered to threatened (downlist); (b) reclassify the species from threatened to endangered (uplist); or (c) delist the species. If we determine that a change in classification is not warranted, then these species will remain on the List under their current status.

Public Solicitation of New Information

We request any new information concerning the status of any of these 16 species. See “What information is considered in the review?” heading for specific criteria. Information submitted should be supported by documentation such as maps, bibliographic references, methods used to gather and analyze the data, and/or copies of any pertinent publications, reports, or letters by knowledgeable sources. Our practice is to make comments, including names and home addresses of respondents, available for public review during regular business hours. Individual respondents may request that we withhold their names and home addresses, etc., but if you wish us to withhold this information, you must state this prominently at the beginning of your comments. In addition, you must present rationale for withholding this information. This rationale must demonstrate that disclosure would constitute a clearly unwarranted invasion of privacy. Unsupported assertions will not meet this burden. In absence of exceptional, undocumented circumstances, this information will be released. We will make all submissions from organizations or businesses, and from individuals identifying themselves as representatives or officials of organizations or businesses, available for public inspection in their entirety.

Authority: This document is published under the authority of the Endangered Species Act (16 U.S.C. 1531 et seq.).

Dated: July 23, 2007.
Cynthia K. Dohner,
Acting Regional Director, Southeast Region.

[FR Doc. E7-18558 Filed 9-20-07; 8:45 am]

BILLING CODE 4310-55-P